DEPARTMENT OF THE INTERIOR

Bureau of Reclamation

Red Bluff Diversion Dam Fish Passage Improvement Project

AGENCY: Bureau of Reclamation, Interior.

ACTION: Notice of Availability of the Final Environmental Impact Statement/Environmental Impact Report (Final EIS/EIR).

SUMMARY: The Bureau of Reclamation (Reclamation) is the National Environmental Policy Act Federal lead agency. The Tehama Colusa Canal Authority (TCCA) is the California Environmental Quality Act State lead agency. Together, these agencies have prepared a Final EIS/EIR for the Red Bluff Diversion Dam Fish Passage Improvement Project (Project). The Project provides for improved fish passage at the Red Bluff Diversion Dam as called for by the Central Valley Project Improvement Act section 3406 (b)(10), while also providing for continued agricultural water deliveries to TCCA member districts.

The Notice of Availability of the Draft EIS/EIR was published in the Federal Register on September 6, 2002 (Volume 67, No. 173). The written comment period on the Draft EIS/EIR ended December 6, 2002. On January 30, 2007, Reclamation published a second Notice of Availability for the Draft EIS/EIR in the Federal Register (Volume 72, No. 19), which began an additional comment period lasting through March 16, 2007. The Final EIS/EIR contains responses to all comments received and changes made to the text of the Draft EIS/EIR as a result of those comments and any additional information received during the review period.

DATES: Reclamation will not make a decision on the proposed action until at least 30 days after release of the Final EIS/EIR. After the 30-day period, Reclamation will complete a Record of Decision (ROD). The ROD will state the action that will be implemented and will discuss all factors leading to the decision.

ADDRESSES: A compact disk of the Final EIS/EIR may be requested from Mr. Don Reck, by writing to the Bureau of Reclamation, 16349 Shasta Dam Boulevard, Shasta Lake, CA 96019-8400; by calling 530-275-1554; or by e-mailing dreck@mp.usbr.gov. The Final EIS/EIR is also accessible from the following Web site: http://www.mp.usbr.gov. See the Supplementary Information section for locations where copies of the Final EIS/EIR are available for public review.

FOR FURTHER INFORMATION CONTACT: Mr. Don Reck, Bureau of Reclamation, at 530-275-1554 or dreck@mp.usbr.gov.

SUPPLEMENTARY INFORMATION: Since construction of the Red Bluff Diversion Dam, concern has been expressed regarding the dam's effect on both upstream and downstream fish migration. The dam was built with 11 movable gates. Raising the gates eliminates the dam's effect and allows the river to flow unimpeded. Lowering the dam gates allows for gravity diversion of water into canals and results in the creation of Lake Red Bluff.

Over the years, the dam gates have been raised for increasingly longer periods in an attempt to enhance fish passage. Therefore, the ability to divert irrigation water has been gradually decreased from year-round to the current 4-month (gates-in) operations from May 15 to September 14. During the remainder of the year, the dam gates are open, allowing a free flowing, unimpeded river. Detailed studies show the current design of the fish ladders and the operations of the dam gates do not adequately allow passage of all threatened and endangered fish species.

The Draft EIS/EIR evaluated the proposed project alternatives that could improve fish passage at Red Bluff Diversion Dam, while also providing for continued diversion of water for irrigation.

The Draft EIS/EIR documented the direct, indirect, and cumulative effects to the physical, natural, and socioeconomic environment that may result from implementation of one of the alternatives. Copies of the Final EIS/EIR are available for public review at the following locations:

• Bureau of Reclamation, Mid-Pacific Region, Regional Library, 2800 Cottage Way, Sacramento, California 95825.

• Bureau of Reclamation, Denver Office Library, Building 67, Room 167, Denver Federal Center, 6th and Kipling, Denver, Colorado 80225.

• Natural Resources Library, U.S. Department of the Interior, 1849 C Street, NW., Main Interior Building, Washington, DC 20240-0001.

Before including your name, address, phone number, e-mail address, or other personal identifying information in any correspondence, you should be aware that your entire correspondence—including your personal identifying information—may be made publicly available at any time. While you can ask us in your correspondence to withhold your personal identifying information from public review, we cannot guarantee that we will be able to do so.

Dated: May 9, 2008.
Donald R. Glaser,
Regional Director, Mid-Pacific Region.

1

[FR Doc. E8-11349 Filed 5-20-08; 8:45 am]

BILLING CODE 4310-MN-P